DEPARTMENT OF LABOR

Employment and Training Administration

[TA-W-58,583]

Air Products and Chemicals, Inc. Including On-Site Leased Workers of Shaw Maintenance, Inc., Pace, FL; Notice of Revised Determination on Reconsideration

By letter dated March 10, 2006, a company official requested administrative reconsideration regarding the Department's Negative Determination Regarding Eligibility to Apply for Worker Adjustment Assistance, applicable to workers of the subject firm. The Notice of Affirmative Determination Regarding Application for Reconsideration was issued on April 20, 2006, and was published in the Federal Register on May 5, 2006 (71 FR 26563).

The Department's negative determination was based on the findings that the subject company did not shift production of ammonia nitrate abroad or increase imports of ammonia nitrate during the relevant period. A survey of the subject company's major declining customers did not reveal increased imports of ammonia nitrate during the relevant period.

To support the request for reconsideration, the company official supplied additional information regarding increased imports of ammonia nitrate by other major declining customers of the subject firm.

During the reconsideration investigation, the Department conducted a survey of the additional customers provided by the company official. The survey revealed increased reliance on imported ammonia nitrate during the period of sales and production declines at the subject firm.

In accordance with section 246 the Trade Act of 1974 (26 U.S.C. 2813), as amended, the Department herein presents the results of its investigation regarding certification of eligibility to apply for alternative trade adjustment assistance (ATAA) for older workers.

In order for the Department to issue a certification of eligibility to apply for ATAA, the group eligibility requirements of section 246 of the Trade Act, as amended, must be met. The Department has determined in this case that the requirements of section 246 have been met.

A significant number of workers at the firm are age 50 or over and possess skills that are not easily transferable. Competitive conditions within the industry are adverse.

Conclusion

After careful review of the additional facts obtained on reconsideration, I conclude that increased imports of articles like or directly competitive with those produced at the subject firm contributed importantly to the sales and production declines and to the separation of workers at the subject firm.

In accordance with the provisions of the Act, I make the following certification:

All workers of Air Products and Chemicals, Inc., Including On-Site Leased Workers of Shaw Maintenance, Inc., Pace, Florida, who became totally or partially separated from employment on or after January 5, 2005 through two years from the date of this certification, are eligible to apply for adjustment assistance under section 223 of the Trade Act of 1974, and are eligible to apply for alternative trade adjustment assistance under section 246 of the Trade Act of 1974, as amended.

Signed in Washington, DC this 12th day of May 2006.
Elliott S. Kushner,
Certifying Officer, Division of Trade Adjustment Assistance.

[FR Doc. E6-7613 Filed 5-18-06; 8:45 am]

BILLING CODE 4510-30-P